DEPARTMENT OF ENERGY

Federal Energy Regulatory Commission

Combined Notice of Filings #1

Take notice that the Commission received the following electric corporate filings:

Docket Numbers: EC17-138-000.

Applicants: 83WI 8me, LLC.

Description: Application for Authorization under Section 203 of the Federal Power Act and Request for Expedited Consideration and Confidential Treatment of 83WI 8me, LLC.

Filed Date: 7/14/17.

Accession Number: 20170714-5229.

Comments Due: 5 p.m. ET 8/4/17.

Docket Numbers: EC17-139-000.

Applicants: Minnesota Wind Holdings, LLC, Jeffers Wind 20, LLC, Community Wind North, LLC, North Community Turbines LLC, North Wind Turbines LLC, Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC.

Description: Joint Application for Approval under Section 203 of the Federal Power Act of Minnesota Wind Holdings, LLC, et al.

Filed Date: 7/14/17.

Accession Number: 20170714-5235.

Comments Due: 5 p.m. ET 8/4/17.

Take notice that the Commission received the following electric rate filings:

Docket Numbers: ER16-2186-000.

Applicants: Deseret Generation & Transmission Co-operative, Inc.

Description: Response to June 19, 2017 Request for Additional Information of Deseret Generation & Transmission Co-operative, Inc.

Filed Date: 7/14/17.

Accession Number: 20170714-5068.

Comments Due: 5 p.m. ET 8/4/17.

Docket Numbers: ER17-2093-000.

Applicants: PJM Interconnection, L.L.C.

Description: § 205(d) Rate Filing: Original Service Agreement No. 4753—NITSA among PJM and Buckeye Power to be effective 6/1/2014.

Filed Date: 7/14/17.

Accession Number: 20170714-5151.

Comments Due: 5 p.m. ET 8/4/17.

Docket Numbers: ER17-2094-000.

Applicants: PJM Interconnection, L.L.C.

Description: § 205(d) Rate Filing: Original Service Agreement No. 4754—NITSA among PJM and IMPA to be effective 10/1/2004.

Filed Date: 7/14/17.

Accession Number: 20170714-5155.

Comments Due: 5 p.m. ET 8/4/17.

Docket Numbers: ER17-2095-000.

Applicants: Black Hills Power, Inc.

Description: § 205(d) Rate Filing: Filing of Executed Transmission Interconnection Agreements to be effective 9/12/2017.

Filed Date: 7/14/17.

Accession Number: 20170714-5168.

Comments Due: 5 p.m. ET 8/4/17.

Docket Numbers: ER17-2096-000.

Applicants: New York Independent System Operator, Inc.

Description: § 205(d) Rate Filing: 205 BSM rules—forecast determinations, escalation factors & inflation rates to be effective 9/12/2017.

Filed Date: 7/14/17.

Accession Number: 20170714-5182.

Comments Due: 5 p.m. ET 8/4/17.

Docket Numbers: ER17-2097-000.

Applicants: Midcontinent Independent System Operator, Inc.

Description: § 205(d) Rate Filing: 2017-07-14_Dynamic Narrowly Constrained Area (NCA) Filing to be effective 11/11/2017.

Filed Date: 7/14/17.

Accession Number: 20170714-5186.

Comments Due: 5 p.m. ET 8/4/17.

Docket Numbers: ER17-2098-000.

Applicants: Black Hills Power, Inc.

Description: § 205(d) Rate Filing: Generation Dispatch and Energy Mgmt Agmt with Gillette, WY to be effective 9/12/2017.

Filed Date: 7/14/17.

Accession Number: 20170714-5209.

Comments Due: 5 p.m. ET 8/4/17.

Docket Numbers: ER17-2099-000.

Applicants: Black Hills Power, Inc.

Description: § 205(d) Rate Filing: Generation Dispatch & Energy Management Agmt with Montana-Dakota Utilities Co. to be effective 9/12/2017.

Filed Date: 7/14/17.

Accession Number: 20170714-5212.

Comments Due: 5 p.m. ET 8/4/17.

Docket Numbers: ER17-2100-000.

Applicants: Black Hills Power, Inc.

Description: § 205(d) Rate Filing: 2017 Amended Generation Dispatch and Energy Mgmt Agmt with Gillette, WY to be effective 9/12/2017.

Filed Date: 7/14/17.

Accession Number: 20170714-5222.

Comments Due: 5 p.m. ET 8/4/17.

Take notice that the Commission received the following electric securities filings:

Docket Numbers: ES17-41-000.

Applicants: Louisville Gas & Electric Company.

Description: Application under Section 204 of the Federal Power Act of Louisville Gas and Electric Company.

Filed Date: 7/17/17.

Accession Number: 20170717-5028.

Comments Due: 5 p.m. ET 8/7/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2017.
Nathaniel J. Davis, Sr.,
Deputy Secretary.

[FR Doc. 2017-15334 Filed 7-20-17; 8:45 am]

BILLING CODE 6717-01-P